NUCLEAR REGULATORY COMMISSION

Sunshine Act Meeting

DATES: Weeks of August 21, 28, September 4, 11, 18, and 25, 2000.

PLACE: Commissioners' Conference Room, 11555 Rockville Pike, Rockville, Maryland.

STATUS: Public and Closed.

MATTERS TO BE CONSIDERED:

Week of August 21

Monday, August 21

1 p.m.

Affirmation Session (Public Meeting)

a: Hydro Resources, Inc. Motion for Partial Reconsideration of CLI-00-08

1:05 p.m.

Discussion of Intragovernmental Issues (Closed—Ex. 4 and 9)

Week of August 28—Tentative

There are no meetings scheduled for the Week of August 28.

Week of September 4—Tentative

There are no meetings scheduled for the Week of September 4.

Week of September 11—Tentative

There are no meetings scheduled for the Week of September 11.

Week of September 18—Tentative

There are no meetings scheduled for the Week of September 18.

Week of September 25—Tentative

Friday, September 29

9:25 a.m.

Affirmation Session (Public Meeting) (If needed)

9:30 a.m.

Briefing on Risk-Informing Special Treatment Requirements (Public Meeting)

1:30 p.m.

Briefing on Threat Environment Assessment (Closed—Ex. 1)

Note: The schedule for Commission meetings is subject to change on short notice. To verify the status of meeting call (recording)—(301) 415-1292. Contact person for more information: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: August 18, 2000.
William M. Hill, Jr.,
SECY Tracking Officer, Office of the Secretary.

[FR Doc. 00-21535 Filed 8-18-00; 2:14 pm]

BILLING CODE 7590-01-M